DEPARTMENT OF HOMELAND SECURITY

Transportation Security Administration

[Docket No. TSA-2001-11120]

Notice of Intent To Request Renewal From the Office of Management and Budget (OMB) of a Current Public Collection of Information; Imposition and Collection of Passenger Civil Aviation Security Service Fees

AGENCY: Transportation Security Administration (TSA), DHS.

ACTION: Notice.

SUMMARY: TSA invites public comment on a currently approved public information collection requirement abstracted below that will be submitted to OMB in compliance with the Paperwork Reduction Act.

DATES: Send your comments by July 5, 2005.

ADDRESSES: Comments may be mailed or delivered to Katrina Wawer, Information Collection Specialist, Office of Transportation Security Policy, TSA-9, Transportation Security Administration, 601 South 12th Street, Arlington, VA 22202-4220.

FOR FURTHER INFORMATION CONTACT: Ms. Wawer at the above address or by telephone (571) 227-1995 or facsimile (571) 227-2594.

SUPPLEMENTARY INFORMATION: In accordance with the Paperwork Reduction Act of 1995, (44 U.S.C. 3501 et seq.), an agency may not conduct or sponsor, and a person is not required to respond to, a collection of information unless it displays a valid OMB control number. Therefore, in preparation for submission for OMB clearance of the information collection discussed in this notice, TSA solicits comments in order to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

1652-0001; Imposition and Collection of Passenger Civil Aviation Security Service Fees

To help cover aviation security costs, as authorized by 49 U.S.C 44940, the Transportation Security Administration (TSA) imposed security service fees on passengers of air carriers and foreign air carriers on December 31, 2001, at 66 FR 67698 (codified at 49 CFR part 1510). This collection was initially required and granted approval under OMB control number 2110-0001, while TSA was under the Department of Transportation. When TSA was transferred to the Department of Homeland Security, the collection was subsequently transferred and assigned the current OMB control number 1652-0001.

This information collection requires the air carriers to submit to TSA certain information necessary for TSA to impose, collect, and regulate the Passenger Civil Aviation Security Service Fees (September 11th Security Fee), which is used to help defray the costs of providing Federal civil aviation security services, and to retain this information for a six-year rolling period. For instance, air carriers must keep the information collected during Fiscal Year 2005 until the expiration of Fiscal Year 2011. TSA collects the information related to the September 11th Security Fee to monitor carrier compliance with the fee requirements, for auditing purposes, and to track performance measures. The fee amount collected from each passenger is $2.50 per enplanement originating in the United States. Passengers may not be charged for more than two enplanements per one-way trip or four enplanements per round trip. 49 CFR 1510.5.

TSA rules require air carriers to impose and collect the fee on passengers, and to submit the fee to TSA by the final day of the calendar month following the month in which the fee was collected. 49 CFR 1510.13. Air carriers are further required to submit quarterly reports to TSA, which provide an accounting of the fees imposed, collected, refunded to passengers, and remitted to TSA. 49 CFR 1510.17.

Each air carrier that collects security service fees from more than 50,000 passengers annually is also required under 49 CFR 1510.15 to submit to TSA an annual independent audit, performed by an independent certified public accountant, of its security service fee activities and accounts. Although, the annual independent audit requirements were suspended January 23, 2003 (68 FR 3192), TSA conducts its own audits of the air carriers (49 CFR 1510.11).

TSA is seeking renewal of this collection to require air carriers to continue submitting the quarterly reports to TSA, and to retain the information for a six-year rolling period. This requirement includes retaining the source information for the quarterly reports remitted to TSA, and the calculations and allocations performed to remit reports to TSA. Should the auditing requirement be reinstated, the requirement would include information and documents reviewed and prepared for the independent audit: The accountant's working papers, notes, worksheets, and other relevant documentation used in the audit; and, if applicable, the specific information leading to the accountant's opinion, including any determination that the accountant could not provide an audit opinion. Although TSA suspended the independent audits, TSA conducts audits of the air carriers, and therefore, requires air carriers to retain and provide the same information as required for the quarterly reports and independent audits.

TSA estimates that 196 total respondent air carriers will spend approximately 1 hour per quarterly report, for a total of 784 hours per year. Should TSA reinstate the audit requirement, TSA estimates that 105 air carriers would be required to submit annual audits, on which they would spend approximately 20 hours for preparation, for a total of 2,100 hours annually. TSA estimates the total for quarterly reports and annual audits is 2,884 hours.

For the quarterly reports and TSA's audits, TSA estimates that the 196 air carriers and foreign air carriers will each incur an average cost of $282.08 annually. This estimate includes $100 in staff time for preparation of the reports (at $25 per hour, each quarterly report is estimated to take 1 hour to prepare), $361.20 in annual records storage related costs, and $1.48 for postage for the report (4 stamps at 37 cents each). TSA estimates an aggregate annual cost of $90,685.28 for each airline to submit quarterly reports and data retention, and an aggregate cost of $272,055.84 for the three years of the renewal period.

Should TSA reinstate the annual audit requirement, TSA estimates the total annual cost for this collection at $315,000 (105 air carriers, at an estimated rate of $150 per hour, at 20 hours per report). For the three-year period of the renewal, TSA estimates the total aggregate cost to be $945,000, and $1,217,055.84 for the three-year extension of both quarterly reports and annual audits.

Issued in Arlington, Virginia, on May 3, 2005.
Lisa S. Dean,
Privacy Officer.

[FR Doc. 05-9130 Filed 5-5-05; 8:45 am]

BILLING CODE 4910-62-P